DEPARTMENT OF TRANSPORTATION

Surface Transportation Board

Notice and Request for Comments

AGENCY: Surface Transportation Board.

ACTION: Notice and request for comments.

SUMMARY: The Surface Transportation Board (Board), as part of its continuing effort to reduce paperwork burdens, and as required by the Paperwork Reduction Act of 1995, 44 U.S.C. 3501 et seq. (PRA), gives notice that the Board will seek from the Office of Management and Budget (OMB) an extension of approval for the two currently approved collections described below. The Board is seeking comments regarding one or both of these collections concerning (1) Whether the collection is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology when appropriate. Submitted comments will be addressed in a subsequent notice and will also be submitted to OMB with the Board's request for OMB approval.

Deadline: Persons wishing to comment on one or both of these information collections should submit comments by January 11, 2010.

ADDRESSES: Direct all comments to Marilyn R. Levitt, Office of the General Counsel, Surface Transportation Board, 395 E Street, SW., Suite 1260, Washington, DC 20423, levittm@stb.dot.gov, or by fax at (202) 245-0460. Comments should be identified as “Paperwork Reduction Act Comments,” and should refer to the title and control number of the specific collection(s) commented upon.

FOR FURTHER INFORMATION CONTACT: Cynthia T. Brown, (202) 245-0350. For a copy of the regulations pertaining to the information collection(s), contact Cynthia T. Brown at (202) 245-0350 or brownc@stb.dot.gov.

Collection Number One

Title: Maps Required in Abandonment Exemption Proceedings.

OMB Control Number: 2140-0008.

Form Number: None.

Type of Review: Extension without change.

Respondents: Railroads initiating abandonment exemption proceedings.

Number of Respondents: 80.

Estimated Time per Response: 1 hour, based on average time reported in informal survey of respondents conducted in 2009.

Frequency of Response: 1.

Total Annual Burden Hours: 80.

Total Annual “Non-Hour Burden” Cost: None have been identified.

Needs and Uses: Under 49 CFR 1152.50(d)(2) and 1152.60(b), the Board requires in each abandonment exemption proceeding a detailed map of the rail line, depicting the line's relation to other rail lines, roads, water routes, and population centers. The Board uses this information to determine the scope and the impact of the proposed abandonment. In addition, this information is posted on the Board's Web site and serves as a form of notice to current and/or potential shippers, and to persons who might want to make an offer of financial assistance under 49 U.S.C. 10904; acquire the line as a trail under the National Trails System Act, 16 U.S.C. 1247(d); or acquire the line for another public purpose under 49 U.S.C. 10905.

Collection Number Two

Title: System Diagram Maps (or, in the case of small carriers, the alternative narrative description of rail system).

OMB Control Number: 2140-0003.

Form Number: None.

Type of Review: Extension without change.

Respondents: Common carrier freight railroads that are either new or reporting changes in the status of one or more of their rail lines.

Number of Respondents: 3.

Estimated Time per Response: 7.1 hours, based on average time reported in informal survey of respondents conducted in 2009.

Frequency of Response: 1.

Total Annual Burden Hours: 21 hours.

Total Annual “Non-Hour Burden” Cost: None have been identified.

Needs and Uses: Under 49 CFR 1152.10-1152.13, all railroads subject to the Board's jurisdiction are required to keep current system diagram maps on file, or alternatively in the case of a Class III carrier (a carrier with assets of not more than $20 million in 1991 dollars), to submit the same information in narrative form. The information sought in this collection identifies all lines in a particular railroad's system, categorized to indicate the likelihood that service on a particular line will be abandoned and/or whether service on a line is currently provided under the financial assistance provisions of 49 U.S.C. 10904. Carriers are obligated to amend these maps as the need to change the category of any particular line arises. The Board uses this information to facilitate informed decision making, and this information, which is available to the public from the carrier by request, 49 CFR 1152.12(c)(3), may serve as notice to the shipping public of the carrier's intent to abandon or retain a line.

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under section 3506(c)(2)(A) of the PRA, Federal agencies are required to provide a 60-day notice and comment period through publication in the Federal Register concerning each proposed collection of information, including each proposed extension of an existing collection of information, before submitting the collection to OMB for approval.

Dated: November 4, 2009.
Cynthia T. Brown,
Chief, Section of Administration, Office of Proceedings.

[FR Doc. E9-27149 Filed 11-10-09; 8:45 am]

BILLING CODE 4915-01-P